DEPARTMENT OF COMMERCE

International Trade Administration

Renewable Energy and Energy Efficiency Business Directory Survey

AGENCY: International Trade Administration, Department of Commerce.

ACTION: Opportunity to participate in business directory app.

SUMMARY: The U.S. Departments of State, Commerce, and Energy (the “Interagency Team”) announce an opportunity for U.S.-based suppliers and providers of clean energy, smart grid, and energy efficiency solutions to participate in the pilot phase of an interactive directory of renewable energy and energy efficiency solutions. The Interagency Team is currently developing an interactive app to serve as a mobile business directory for U.S. clean energy exporters. The app will highlight sustainability improvements at U.S. diplomatic missions and provide potential business partners globally with a searchable interface to find information on potential U.S. technology and service providers. The app will showcase a diverse array of clean energy goods and services, including renewable energy equipment (solar, wind, geothermal), biofuels, fuel cell power, smart grid technologies, and energy efficiency solutions, as well as U.S.-based services critical to the deployment of clean energy supplies. U.S. clean energy exporters interested in registering to be part of the pilot phase of the interactive directory and providing information on their company's solutions to be included in the app are requested to send an email to reee@trade.gov by no later than February 20, 2015.

Who will use the app?

Target users include Foreign Service Officers and Foreign Commercial Service Officers and their energy sector stakeholders in international markets. The app will enable users to easily demonstrate U.S. clean energy and energy efficiency solutions available in foreign markets and provide a tool to facilitate commercial partnerships that drive the deployment of U.S. technologies and services globally. Through the app, a global audience, as well as the American public, will be invited to learn more about environmental diplomacy efforts overseas, and the innovative U.S. companies powering them.

Disclaimer

The information submitted to the directory and displayed on the app is intended to inform users about U.S. clean energy and energy efficiency solutions. All U.S.-based businesses in these industries that meet the criteria requested in the online form will be eligible for the directory and app. The Interagency Team will perform due diligence on submissions to the Directory and expects that submitting parties will perform their own due diligence, investigation, and background research before entering into a commercial relationship with any listed business or business contact facilitated through the product. A listing in the directory does not constitute endorsement of the business or its products, services or technology by the Interagency Team. The Interagency Team assumes no responsibility or liability for the actions users may take based on the information provided and reserves the right not to list any particular business.

ADDRESSES: To provide information for use in the app, send an email to reee@trade.gov by no later than February 20, 2015.

FOR FURTHER INFORMATION CONTACT: Helaina Matza, Office of Innovation and Eco-Diplomacy, United States Department of State; 202.647.0716; sustainability@state.gov; or Andrew Bennett, Office of Energy and Environmental Industries, United States Department of Commerce; 202-482-5235; reee@trade.gov.

Edward A. O'Malley,
Director, Office of Energy and Environmental Industries.

[FR Doc. 2015-01073 Filed 1-21-15; 8:45 am]

BILLING CODE 3510-DR-P